DEPARTMENT OF THE INTERIOR

Minerals Management Service

Agency Information Collection Activities: Submitted for Office of Management and Budget (OMB) Review; Comment Request

AGENCY: Minerals Management Service (MMS), Interior.

ACTION: Notice of a revision of a currently approved information collection (OMB Control Number 1010-0140).

SUMMARY: To comply with the Paperwork Reduction Act of 1995 (PRA), we are notifying the public that we have submitted to OMB an information collection request (ICR) to renew approval of the paperwork requirements in the regulations under 30 CFR Part 210—Forms and Reports, regarding Form MMS-2014, Report of Sales and Royalty Remittance. This notice also provides the public a second opportunity to comment on the paperwork burden of these regulatory requirements.

DATES: Submit written comments on or before November 20, 2006.

ADDRESSES: Submit written comments by either FAX (202) 395-6566 or e-mail (OIRA_Docket@omb.eop.gov) directly to the Office of Information and Regulatory Affairs, OMB, Attention: Desk Officer for the Department of the Interior (OMB Control Number 1010-0140).

Please also send a copy of your comments to MMS via e-mail at mrm.comments@mms.gov. Include the title of the information collection and the OMB control number in the “Attention” line of your comment. Also include your name and return address. If you do not receive a confirmation that we have received your e-mail, contact Ms. Gebhardt at (303) 231-3211.

You may also mail a copy of your comments to Sharron L. Gebhardt, Lead Regulatory Specialist, Minerals Management Service, Minerals Revenue Management, P.O. Box 25165, MS 302B2, Denver, Colorado 80225. If you use an overnight courier service or wish to hand-deliver your comments, our courier address is Building 85, Room A-614, Denver Federal Center, West 6th Ave. and Kipling Blvd., Denver, Colorado 80225.

FOR FURTHER INFORMATION CONTACT: Sharron L. Gebhardt, telephone (303) 231-3211, FAX (303) 231-3781, e-mail Sharron.Gebhardt@mms.gov. You may also contact Sharron Gebhardt to obtain, at no cost, copies of (1) the ICR, (2) any associated forms, and (3) regulations that require the subject collection of information.

SUPPLEMENTARY INFORMATION: Title: 30 CFR Part 210—Forms and Reports.

OMB Control Number: 1010-0140.

Bureau Form Number: Form MMS-2014.

Abstract: The Secretary of the U.S. Department of the Interior is responsible for matters relevant to mineral resource development on Federal and Indian lands and the Outer Continental Shelf (OCS). The Secretary, under the Mineral Leasing Act (30 U.S.C. 1923) and the Outer Continental Shelf Lands Act (43 U.S.C. 1353), is responsible for managing the production of minerals from Federal and Indian lands and the OCS, collecting royalties from lessees who produce minerals, and distributing the funds collected in accordance with applicable laws.

The Secretary has a trust responsibility to manage Indian lands and seek advice and information from Indian beneficiaries. The MMS performs the royalty management functions and assists the Secretary in carrying out the Department's trust responsibility for Indian lands.

The Federal Oil and Gas Royalty Management Act (FOGRMA) of 1982, 30 U.S.C. 1701 et seq., states in Section 101(a) that the Secretary “* * * shall establish a comprehensive inspection, collection, and fiscal and production accounting and auditing system to provide the capability to accurately determine oil and gas royalties, interest, fines, penalties, fees, deposits, and other payments owed, and collect and account for such amounts in a timely manner.” The MMS collects the information on Form MMS-2014, Report of Sales and Royalty Remittance, which is the only document used for reporting oil and gas royalties, certain rents, and other lease-related transactions (e.g., transportation and processing allowances, lease adjustments, and quality and location differentials). The information collected includes data necessary to ensure that the royalties are paid appropriately.

The persons or entities described under FOGRMA at 30 U.S.C. 1713 are required to make reports and submit reasonable information as defined by the Secretary. When a company or an individual enters into a lease to explore, develop, produce, and dispose of minerals from Federal or Indian lands, that company or individual agrees to pay the lessor a share (royalty) of the value received from production from the leased lands. The lease creates a business relationship between the lessor and the lessee. The lessee is required to report various kinds of information to the lessor relative to the disposition of the leased minerals. Such information is similar to data reported to private and public mineral interest owners and is generally available within the records of the lessee or others involved in developing, transporting, processing, purchasing, or selling of such minerals.

Public laws pertaining to mineral royalties are located on our Web site at http://www.mrm.mms.gov/Laws_R_D/PublicLawsAMR.htm.

The MMS is requesting OMB's approval to continue to collect this information using Form MMS-2014. Not collecting this information would limit the Secretary's ability to discharge his/her duties and may also result in loss of royalty payments. Any proprietary information submitted is protected, and there are no questions of a sensitive nature included in this information collection. The requirement to respond is mandatory.

Frequency: Monthly and as required.

Estimated Number and Description of Respondents: 2,070 lessees.

Estimated Annual Reporting and Recordkeeping “Hour” Burden: 158,821 hours.

We have not included in our estimates certain requirements performed in the normal course of business and considered usual and customary. The following chart shows the estimated burden hours by CFR section and paragraph:

Respondents' Estimated Annual Burden Hours
30 CFR part 210 | Reporting and recordkeeping requirement | Hour burden | Average number of annual responses | Annual burden hours
|  | Electronic (99 percent)
210.20(a); 210.21(c)(1); 210.50; 210.52(a)(1), (a)(2), (b), (c), and (d); and 210.354 | 210.20 When is electronic reporting required? (a) You must submit Form MMS-2014 * * * to MMS electronically. * * * 210.21 How do you report electronically?
| (c)(1) You must submit an electronic sample of your report for MMS approval * * * | ¹ 0.05 | 3,103,265 | 155,163
|  | Manual (1 percent)
| 210.50 Required recordkeeping.
| * * * Records may be maintained in microfilm, microfiche, or other recorded media * * * | ² 0.1167 | 31,346 | 3,658
| 210.52 Report of sales and royalty remittance.
| (a) You must submit a completed Form MMS-2014 (Report of Sales and Royalty Remittance) to MMS with:
| (1) All royalty payments; and
| (2) Rents on nonproducing leases * * *
| (b) When you submit Form MMS-2014 data electronically, you must not submit the form itself.
| (c) Completed Forms MMS-2014 for royalty payments are due by the end of the month following the production month.
| (d) * * * completed Forms MMS-2014 for rental payments are due no later than the anniversary date of the lease. |  |  |
| 210.354 Monthly report of sales and royalty.
| A completed * * * (Form MMS-2014) must be submitted each month once sales or utilization of production occur * * * This report is due on or before the last day of the month following the month in which production was sold or utilized * * * |  |  |
210.351 | 210.351 Required recordkeeping. | Burden hours covered under § 210.354 above
| * * * Records may be maintained on microfilm, microfiche, or other recorded media that are easily reproducible and readable. * * *
Burden Hour Total |  | 3,134,611 | 158,821
¹ 3 minutes.
² 7 minutes.
Note.—Each line is considered one response/report.

Estimated Annual Reporting and Recordkeeping “Non-hour” Cost Burden:

We have identified no “non-hour cost” burden associated with the collection of information.

Public Disclosure Statement: The PRA (44 U.S.C. 3501 et seq.) provides that an agency may not conduct or sponsor, and a person is not required to respond to, a collection of information unless it displays a currently valid OMB control number.

Comments: Section 3506(c)(2)(A) of the PRA requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a notice in the Federal Register on November 21, 2005 (70 FR 70092), announcing that we would submit this ICR to OMB for approval. The notice provided the required 60-day comment period. We received no comments in response to the notice.

If you wish to comment in response to this notice, you may send your comments to the offices listed under the ADDRESSES section of this notice. The OMB has up to 60 days to approve or disapprove the information collection but may respond after 30 days. Therefore, to ensure maximum consideration, OMB should receive public comments by November 20, 2006.

Public Comment Policy: We will post all comments in response to this notice on our Web site at http://www.mrm.mms.gov/Laws_R_D/InfoColl/InfoColCom.htm. We will also make copies of the comments available for public review, including names and addresses of respondents, during regular business hours at our offices in Lakewood, Colorado. Upon request, we will withhold an individual respondent's home address from the public record, as allowable by law. There also may be circumstances in which we would withhold a respondent's identity, as allowable by law. If you request that we withhold your name and/or address, state your request prominently at the beginning of your comment. However, we will not consider anonymous comments. We will make all submissions from organizations or businesses, and from individuals identifying themselves as representatives or officials of organizations or businesses, available for public inspection in their entirety.

MMS Information Collection Clearance Officer: Arlene Bajusz, (202) 208-7744.

Dated: June 14, 2006.
Shirley M. Conway,
Acting Associate Director for Minerals Revenue Management.

[FR Doc. E6-17538 Filed 10-19-06; 8:45 am]

BILLING CODE 4310-MR-P